DEPARTMENT OF ENERGY

Biological and Environmental Research Advisory Committee

AGENCY: Office of Science, Department of Energy.

ACTION: Notice of Open Teleconference Meeting.

SUMMARY: This notice announces a teleconference meeting of the Biological and Environmental Research Advisory Committee (BERAC). The Federal Advisory Committee Act (Pub. L. 92-463, 86 Stat. 770) requires that public notice of these meetings be announced in the Federal Register.

DATES: Wednesday, June 4, 2014, 11:00 a.m. to 1:00 p.m. EDT

ADDRESSES: Public participation is welcomed. Information concerning the call-in number can be found on the Web site: http://science.energy.gov/ber/berac/meetings or by contacting Ms. Joanne Corcoran, by email joanne.corcoran@science.doe.gov or by phone (301) 903-6488.

FOR FURTHER INFORMATION CONTACT: Dr. David Thomassen, Designated Federal Officer, BERAC, U.S. Department of Energy, Office of Science, Office of Biological and Environmental Research, SC-23/Germantown Building, 1000 Independence Avenue SW., Washington, DC 20585-1290. Telephone (301) 903-9817; Fax (301) 903-5051 or Email: david.thomassen@science.doe.gov. The most current information concerning this meeting can be found on the Web site: http://science.energy.gov/ber/berac/meetings/.

SUPPLEMENTARY INFORMATION: Purpose of Meeting: To provide advice on a continuing basis to the Director, Office of Science of the Department of Energy, on the many complex scientific and technical issues that arise in the development and implementation of the Biological and Environmental Research Program.

Tentative Agenda:

• Preparation of final BERAC report based on the charge letter dated February 19, 2014 (http://science.energy.gov/~/media/ber/berac/pdf/Reports/Workforce_Charge_Letter.pdf)

Public Participation: The teleconference meeting is open to the public. If you would like to file a written statement with the Committee, you may do so either before or after the meeting. If you would like to make oral statements regarding the item on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of the meeting will be available for public review and copying within 45 days at the BERAC Web site: http://science.energy.gov/ber/berac/meetings/berac-minutes/.

Issued at Washington, DC on May 7, 2014.
LaTanya R. Butler,
Deputy Committee Management Officer.

[FR Doc. 2014-11024 Filed 5-12-14; 8:45 am]

BILLING CODE 6450-01-P